Proclamation 8970 of April 30, 2013

National Physical Fitness and Sports Month, 2013

By the President of the United States of America

A Proclamation

Over the past 3 years, communities all across America have joined First Lady Michelle Obama's Let's Move! initiative, which aims to help parents make healthy choices and give our children a strong start. Today, families have more of the tools and know-how they need to embrace a healthy lifestyle. Kids and adults are finding new ways to bring exercise into their daily lives. And by getting active, our youngest generation is not only improving their health, but also their ability to learn and be successful later in life. During National Physical Fitness and Sports Month, we celebrate that progress and keep striving for more.

To help more kids and families get moving and make exercise a lifelong habit, we are working to create more opportunities for physical activity—whether on the playground, in the classroom, or at work. Through Let's Move! and the President's Council on Fitness, Sports, and Nutrition, we continue to advance that mission by collaborating with partners in every corner of our country—public and private, large and small, national and neighborhood. Together, we are helping cities, towns, and counties raise a healthier generation of kids. And earlier this year, we built on that work by launching a new program to bring physical activity back to our schools. To learn more and join in, visit www.LetsMove.gov and www.Fitness.gov.

With simple steps, all of us can make physical activity a way of life. This month, we recognize Americans who are choosing that future for themselves and inspiring others to do the same. We also take this opportunity to renew the call to action. I encourage business, faith, and community leaders to uphold physical activity as an important way to enrich our neighborhoods. I call on schools to make good health and exercise part of a good education. And alongside our friends and family, let each of us recommit to leading a healthy, active lifestyle, and setting our children on the path to a bright future.

NOW, THEREFORE, I, BARACK OBAMA, President of the United States of America, by virtue of the authority vested in me by the Constitution and the laws of the United States, do hereby proclaim May 2013 as National Physical Fitness and Sports Month. I call upon the people of the United States to make daily physical activity, sports participation, and good nutrition a priority in their lives.

IN WITNESS WHEREOF, I have hereunto set my hand this thirtieth day of April, in the year of our Lord two thousand thirteen, and of the Independence of the United States of America the two hundred and thirty-seventh.

[FR Doc. 2013-10752

Filed 5-2-13; 11:15 am]

Billing code 3295-F3